DEPARTMENT OF JUSTICE

Office of Justice Programs

[OMB No. 1121-0184]

Agency Information Collection Activities; Extension of a Currently Approved Collection; Comments Requested: School Crime Supplement (SCS) to the National Crime Victimization Survey (NCVS)

ACTION: 30-day notice of information collection under review.

The Department of Justice (DOJ), Office of Justice Programs, Bureau of Justice Statistics wukk be submitting the following information collection request to the Office of Management and Budget (OMB) for review and approval in accordance with the Paperwork Reduction Act of 1995. The proposed information collection is published to obtain comments from the public and affected agencies. This proposed information collection was previously published in the Federal Register Volume 77, Number 142, page 43365 on July 24, 2012, allowing for a 60 day comment period.

The purpose of this notice is to allow for an additional 30 days for public comment until October 29, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Extension of a currently approved collection.

(2) Title of the Form/Collection: School Crime Supplement (SCS) to the National Crime Victimization Survey.

(3) Agency form number, if any, and the applicable component of the department sponsoring the collection: SCS-1. Bureau of Justice Statistics, Office of Justice Programs, Department of Justice.

(4) Affected public who will be asked or required to respond, as well as a brief abstract. Primary: The survey will be administered to persons ages 12 to 18 in NCVS sampled households in the United States. The School Crime Supplement (SCS) to the National Crime Victimization Survey collects, analyzes, publishes, and disseminates statistics on the students' victimization, perceptions of school environment, and safety at school.

(5) An estimate of the total number of respondents and the amount of time estimated for an average respondent to respond/reply: Approximately 10,006 persons ages 12 to 18 will complete an SCS interview. We estimate the average length of the SCS interview for these individuals will be 0.177 hours (10.6 minutes).

(6) An estimate of the total public burden (in hours) associated with the collection: The total respondent burden is approximately 1,773 hours.

If additional information is required contact: Jerri Murray, Department Clearance Officer, United States Department of Justice, Justice Management Division, Policy and Planning Staff, Two Constitution Square, 145 N Street NE., Room 2E-508, 601 D Street NW., Washington, DC 20530.

Dated: September 24, 2012.
Jerri Murray,
Department Clearance Officer, PRA, United States Department of Justice.

[FR Doc. 2012-23845 Filed 9-27-12; 8:45 am]

BILLING CODE 4410-18-P